DEPARTMENT OF HEALTH AND HUMAN SERVICES

National Institutes of Health

Center for Scientific Review; Amended Notice of Meeting

Notice is hereby given of a change in the meeting of the Center for Scientific Review Special Emphasis Panel, Fellowships: Brain Disorders and Related Neurosciences, April 24, 2025, 9:30 a.m. to April 25, 2025, 7 p.m., National Institutes of Health, 6701 Rockledge Drive, Bethesda, MD 20892 which was published in the Federal Register on March 21, 2025, 90 FR 13379, Doc No 2025-04888.

This meeting is being amended to change the contact person from Sulanga Banerjee to Nilkantha Sen, Center for Scientific Review, National Institutes of Health, 6701 Rockledge Drive, Bethesda, MD 20892, nilkantha.sen@nih.gov. The meeting is closed to the public.

Dated: April 4, 2025.
David W. Freeman,
Supervisory Program Analyst, Office of Federal Advisory Committee Policy.

[FR Doc. 2025-06086 Filed 4-8-25; 8:45 am]

BILLING CODE 4140-01-P